ENVIRONMENTAL PROTECTION AGENCY

[FRL-7563-2]

Guidance on Selecting the Appropriate Age Groups for Assessing Childhood Exposures to Environmental Contaminants (External Review Draft); Notice of Availability

AGENCY: Environmental Protection Agency.

ACTION: Notice of availability and opportunity for public comment.

SUMMARY: The U.S. Environmental Protection Agency (EPA) is announcing a 60-day public comment period for the draft document entitled Guidance on Selecting the Appropriate Age Groups for Assessing Childhood Exposures to Environmental Contaminants. The document is intended to provide guidance to EPA scientists on the appropriate age groups to consider when assessing childhood exposure and potential dose to environmental contaminants.

DATES: Comments must be received by November 21, 2003.

ADDRESSES: The draft is available via the Internet at http://cfpub2.epa.gov/ncea/raf/recordisplay.cfm?deid=55887. Comments may be submitted electronically, by mail, or in person, as described in the instructions under Supplementary Information.

FOR FURTHER INFORMATION CONTACT: Marilyn Brower, Risk Assessment Forum Staff (8601D), 1200 Pennsylvania Ave. NW, Washington, DC 20460; telephone: 202-564-3363; fax: 202-565-0061; e-mail: brower.marilyn@epa.gov

SUPPLEMENTARY INFORMATION:

I. Submission of Comments

Electronic comments are preferred and may be sent by e-mail to: risk.forum@epa.gov. Alternatively, comments may be mailed to the Technical Information Staff (8623D), NCEA-W, U.S. Environmental Protection Agency, 1200 Pennsylvania Avenue, NW, Washington, DC 20460, or delivered to the Technical Information Staff at 808 17th Street, N.W., 5th Floor, Washington, DC 20006; telephone: 202-564-3261; facsimile: 202-565-0050. In the case of paper comments, please submit one unbound original with pages numbered consecutively, and three copies of the comments. For attachments, provide an index, number pages consecutively with the comments, and submit an unbound original and three copies.

Please note that all comments received in response to this notice will be placed in a public record. For that reason, comments should not contain personal information (such as medical data or home address), Confidential Business Information, or information protected by copyright.

II. Background

EPA has been investigating ways to improve Agency risk assessments for children in response to recent reports and regulatory initiatives including the 1993 National Academy of Sciences (NAS) report “Pesticides in the Diets of Infants and Children”, the Food Quality Protection Act of 1996 (FQPA) and Executive Order 13045, “Protection of Children from Environmental Health Risks and Safety Risk”. One effort undertaken by a Risk Assessment Forum workgroup has been exploring children's exposure assessment issues. Children's behavior changes over time in ways that can have an important impact on exposure and potential dose. Further, children's physiology changes over time in ways that can affect potential dose, internal dose, and susceptibility to certain health effects. The workgroup has concluded that a major issue facing the Agency is how to consistently consider age-related changes in behavior and physiology when assessing early lifestage exposure and potential dose. A key issue is how to capture these changes in an assessment of risks from exposure to environmental contaminants. This issue is critical for scientists involved in preparing exposure assessments applicable to children and for use in evaluating integrated lifetime exposures.

The workgroup's draft guidance provides a recommended set of childhood age groups to promote cross-program consistency in Agency risk assessments for children. In addition, these age groups will guide future analyses of exposure factors data as well as new research and data collection efforts. The recommendations presented are based on discussions held during a July 2000 technical workshop on considering developmental changes when assessing exposures to children and a subsequent expert analysis of existing exposure factors data.

The document is undergoing peer review concurrent with the public comment period described in this notice. This guidance is not a regulation nor is it intended to substitute for federal regulations. It does not establish any substantive “rules” under the Administrative Procedure Act or any other law and will have no binding effect on EPA or any regulated entity.

Dated: September 10, 2003.
Peter W. Preuss,
Director, National Center for Environmental Assessment.

[FR Doc. 03-24122 Filed 9-18-03; 12:01 pm]

BILLING CODE 6560-50-U